DEPARTMENT OF COMMERCE

International Trade Administration

[A-588-815]

Gray Portland Cement and Cement Clinker From Japan: Continuation of Antidumping Duty Order

AGENCY: Enforcement and Compliance, International Trade Administration, Department of Commerce.

SUMMARY: As a result of the determinations by the U.S. Department of Commerce (Commerce) and the U.S. International Trade Commission (ITC) that revocation of the antidumping duty (AD) order on gray portland cement and cement clinker (cement and clinker) from Japan would likely lead to a continuation or recurrence of dumping and material injury to an industry in the United States, Commerce is publishing a notice of continuation of the AD order.

DATES: Applicable February 10, 2023.

FOR FURTHER INFORMATION CONTACT: Eliza DeLong, AD/CVD Operations, Office V, Enforcement and Compliance, International Trade Administration, U.S. Department of Commerce, 1401 Constitution Avenue NW, Washington, DC 20230; telephone: (202) 482-3878.

SUPPLEMENTARY INFORMATION:

Background

On May 10, 1991, Commerce published the AD order on cement and clinker from Japan.¹ On June 1, 2022, the ITC instituted,² and Commerce initiated,³ the fifth sunset review of the Order, pursuant to section 751(c) of the Tariff Act of 1930, as amended (the Act). As a result of its review, Commerce determined that a revocation of the Order would likely lead to continuation or recurrence of dumping and, therefore, notified the ITC of the magnitude of the margin of dumping likely to prevail should the Order be revoked.⁴

¹ See Final Determination of Sales at Less Than Fair Value; Gray Portland Cement and Clinker from Japan, 56 FR 12156 (March 22, 1991), as amended by Antidumping Duty Order and Amendment to Final Determination of Sales at Less Than Fair Value: Gray Portland Cement and Clinker from Japan, 56 FR 21658 (May 10, 1991), and Amended Final Determination of Sales at Less Than Fair Value and Antidumping Order: Gray Portland Cement and Clinker from Japan, 60 FR 39150 (August 1, 1995) (Order).

² See Gray Portland Cement and Cement Clinker from Japan; Institution of a Five-Year Review, 87 FR 33210 (June 1, 2022).

³ See Initiation of Five-Year (Sunset) Reviews, 87 FR 33123 (June 1, 2022).

⁴ See Gray Portland Cement and Cement Clinker from Japan: Final Results of Expedited Sunset Review of the Antidumping Duty Order, 87 FR 60121 (October 4, 2022).

On February 1, 2023, the ITC published its determination, pursuant to sections 751(c) and 752(a) of the Act, that revocation of the Order would likely lead to continuation or recurrence of material injury to an industry in the United States within a reasonably foreseeable time.⁵

⁵ See Gray Portland Cement and Cement Clinker from Japan, 88 FR 6783 (February 1, 2023).

Scope of the Order

The products covered by the Order are cement and cement clinker from Japan. Cement is a hydraulic cement and the primary component of concrete. Cement clinker, an intermediate material produced when manufacturing cement, has no use other than grinding into finished cement. Microfine cement was specifically excluded from the Order. Cement is currently classifiable under the Harmonized Tariff Schedule of the United States (HTSUS) subheading 2523.29 and cement clinker is currently classifiable under HTSUS subheading 2523.10. Cement has also been entered under HTSUS subheading 2523.90 as “other hydraulic cements.” The HTSUS subheadings are provided for convenience and customs purposes. The written product description remains dispositive as to the scope of the product covered by the Order.⁶

⁶ Commerce has made two scope rulings regarding subject merchandise. See Scope Rulings, 57 FR 19602 (May 7, 1992) (classes G and H of oil well cement are within the scope of the Order); see also Scope Rulings, 58 FR 27542 (May 10, 1993) (“Nittetsu Super Fine” cement is not within the scope of the Order).

Continuation of the Order

As a result of the determinations by Commerce and the ITC that revocation of the Order would likely lead to a continuation or a recurrence of dumping, as well as material injury to an industry in the United States, pursuant to section 751(d)(2) of the Act and 19 CFR 351.218(a), Commerce hereby orders the continuation of the Order. U.S. Customs and Border Protection will continue to collect AD cash deposits at the rates in effect at the time of entry for all imports of subject merchandise.

The effective date of the continuation of the Order will be the date of publication in the Federal Register of this notice of continuation. Pursuant to section 751(c)(2) of the Act and 19 CFR 351.218(c)(2), Commerce intends to initiate the next five-year review of the Order not later than 30 days prior to the fifth anniversary of the effective date of continuation.

Administrative Protective Order

This notice also serves as the only reminder to parties subject to an administrative protective order (APO) of their responsibility concerning the return, destruction, or conversion to judicial protective order of proprietary information disclosed under APO in accordance with 19 CFR 351.305(a)(3). Timely written notification of the return or destruction of APO materials or conversion to judicial protective order is hereby requested. Failure to comply is a violation of the APO which may be subject to sanctions.

Notification to Interested Parties

This five-year sunset review and this notice are in accordance with sections 751(c) and 751(d)(2) of the Act and published in accordance with section 777(i)(1) of the Act and 19 CFR 351.218(f)(4).

Dated: February 3, 2023.
Lisa W. Wang,
Assistant Secretary for Enforcement and Compliance.

[FR Doc. 2023-02815 Filed 2-9-23; 8:45 am]

BILLING CODE 3510-DS-P